DEPARTMENT OF AGRICULTURE

Forest Service

Winter Motorized Recreation Forest Plan Amendment, Flathead National Forest, Flathead, Lake Missoula, Lincoln and Sanders Counties, MT

AGENCY: Forest Service, USDA.

ACTION: Notice; intent to prepare environmental impact statement.

SUMMARY: The Forest Service will prepare an environmental impact statement (EIS) to amend the Flathead National Forest Land and Resource Management Plan (hereafter referred to as Forest Plan) management direction regarding winter snowmobile use. The amendment covers the entire Flathead National Forest.

DATES: Comments concerning the proposed action should be received in writing on or before 30 days after publication of this notice in the Federal Register. The draft EIS is expected to be filed with the Environmental Protection Agency and made available for public review in October 2002. No date has yet been determined for filing the final EIS.

ADDRESSES: Send written comments to Terry Chute, Planning Staff Officer, 1935 3rd Avenue East, Kalispell, Montana 59901 or call (406) 758-5243.

FOR FURTHER INFORMATION CONTACT: Terry Chute, Planning Staff Officer, 1935 3rd Avenue East, Kalispell, Montana 59901 or call (406) 758-5243.

SUPPLEMENTARY INFORMATION: The existing Forest Plan does not adequately address winter-motorized access. In response to administrative appeals of the Forest Plan, the Associate Chief of the Forest Service directed the Regional Forester “to clarify the LRMP management direction to eliminate any confusion about motorized use in MA-2A areas.” For various reasons that clarification did not occur.

In response to a 1999 lawsuit, a federal Magistrate recommended that the Flathead National Forest be ordered to close all Management Area (MA) 2A areas to motorized use. These MA 2A areas include many popular snowmobile play areas, as well as groomed snowmobile trails. The parties to the lawsuit agreed to a settlement that included preparation of a Forest Plan amendment in an open public forum to develop Forest-wide winter motorized recreation direction.

The Purpose and Need for this amendment is to:

1. Clarify Forest Plan management direction to eliminate any confusion about motorized use in MA-2A areas.

2. Meet the requirements of a settlement agreement resulting from a lawsuit challenging the Flathead Forest Plan.

3. Determine long-term winter recreation management direction related to motorized use.

The Proposed Action for the Winter Motorized Recreation Amendment includes the following features:

• A new Forest-wide standard would be added to the Forest Plan that would incorporate a set of winter motorized recreation maps into the Forest Plan, which would provide direction on where winter motorized use may and may not occur.

• Forest-wide and management area direction would be reviewed and clarified as needed to provide clear direction regarding winter motorized access.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of of the comment period so that substantive comments and objections are made available to the Forest Service at a time when it can meaningfully consider and respond to them.

To assist the Forest Service in identifying and considering issues and concerns on the proposed action, comments should be as specific as possible.

The Responsible Official is the Forest Supervisor of the Flathead National Forest, 1935 3rd Avenue East, Kalispell, Montana 59901. The Forest Supervisor will make a decision regarding this proposal considering the comments and responses, environmental consequences discussed in the final EIS, and applicable laws, regulations, and policies, The decision and rationale for the decision will be documented in a Record of Decision. That decision will be subject to appeal under applicable Forest Service regulations.

Dated: July 15, 2002.
Cathy Barbouletos,
Forest Supervisor—Flathead National Forest.

[FR Doc. 02-18483 Filed 7-19-02; 8:45 am]

BILLING CODE 3410-11-M